NUCLEAR REGULATORY COMMISSION

[Docket Nos. 50-277 and 50-278; NRC-2010-0042]

Exelon Generation Company, LLC; PSEG Nuclear, LLC; Peach Bottom Atomic Power Station Units 2 and 3; Notice of Withdrawal of Application for Amendment to Facility Operating License

The U.S. Nuclear Regulatory Commission (the Commission) has granted the request of Exelon Generation Company, LLC, (Exelon) and PSEG Nuclear, LLC, to withdraw the portion of its August 7, 2008, application related to incorporation of Technical Specification Task Force Traveler 363, Revision 0, for proposed amendment to Facility Operating License Nos. DPR-44 and DPR-56 for the Peach Bottom Atomic Power Station (PBAPS), Units 2 and 3, located in York and Lancaster Counties, Pennsylvania.

The proposed amendment would have revised the Technical Specifications to incorporate TSTF-363-A, “Revise Topical Report References in ITS [improved technical specifications] 5.6.5, COLR [Core Operating Limits Report],” Revision 0. The amendment would have modified the PBAPS Units 2 and 3 TS 5.6.5, “Core Operating Limits Report (COLR),” to remove the requirement to maintain COLR Topical Report references by number, title, date, and NRC staff approved document, if included. Incorporation of the TSTF would have permitted referencing of the topical report by number and title only in the TSs, with the additional details being controlled within the COLR document.

The Commission had previously issued a Notice of Consideration of Issuance of Amendment published in the Federal Register on May 5, 2009 (74 FR 20744). However, by letter dated January 19, 2010, the licensee withdrew the proposed change.

For further details with respect to this action, see the application for amendment dated August 7, 2008, and the licensee's letter dated January 19, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 29th day of January 2010.
For the Nuclear Regulatory Commission.
John D. Hughey,
Project Manager, Plant Licensing Branch LPL1-2, Division of Operating Reactor Licensing, Office of Nuclear Reactor Regulation.

[FR Doc. 2010-2532 Filed 2-4-10; 8:45 am]

BILLING CODE 7590-01-P